DEPARTMENT OF HOMELAND SECURITY

Transportation Security Administration

Intent To Request Revision From OMB of One Current Public Collection of Information: Aircraft Operator Security

AGENCY: Transportation Security Administration, DHS.

ACTION: 60-Day notice.

SUMMARY: The Transportation Security Administration (TSA) invites public comment on one currently approved Information Collection Request (ICR), Office of Management and Budget (OMB) control number 1652-0003, abstracted below that we will submit to OMB for a revision in compliance with the Paperwork Reduction Act (PRA). The ICR describes the nature of the information collection and its expected burden. Aircraft operators must provide certain information to TSA and adopt and implement a TSA-approved security program. These programs require aircraft operators to maintain and update records to ensure compliance with security provisions set forth in 49 CFR part 1544.

DATES: Send your comments by September 18, 2023.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0003; Aircraft Operator Security, 49 CFR Part 1544

The information collected is used to determine compliance with 49 CFR part 1544 and to ensure passenger safety by monitoring aircraft operator security procedures. TSA implements aircraft operator security standards at part 1544 to require each aircraft operator, to which this part applies, to adopt and carry out a security program. This TSA-approved security program establishes procedures that aircraft operators must carry out to protect persons and property traveling on flights provided by the aircraft operator against acts of criminal violence, aircraft piracy, and the introduction of explosives, incendiaries, or weapons aboard an aircraft. Aircraft operators must also comply with TSA-issued security program amendments and Security Directives (SDs).

TSA may amend a security program under 49 CFR 1544.105(c) if safety and the public interest require an amendment, and may issue an emergency amendment under 49 CFR 1544.105(d) if TSA determines there is an emergency requiring immediate action with respect to safety in air transportation or air commerce that makes the procedures in 49 CFR 1544.105 contrary to the public interest. Furthermore, TSA may issue an Information Circular (IC) to notify aircraft operators of security concerns. Compliance with the IC is voluntary. However, when TSA determines that additional security measures are necessary to respond to a threat assessment or to a specific threat against civil aviation, TSA issues a Security Directive setting forth mandatory measures.

As part of their security programs, affected aircraft operators are required to maintain and update, as necessary, records of compliance with the security program provisions set forth in 49 CFR part 1544, including maintaining records of direct aircraft operator employees and their authorized representative's actions related to operations security. Additional required records include validation of current fingerprint-based criminal history records check (CHRC) and Security Threat Assessment status of those employees. Part 1544 also requires affected aircraft operators to submit security program amendments and SD compliance plans to TSA, when applicable, and to make their security programs and associated records available for inspection and copying by TSA to ensure transportation security and regulatory compliance.

In addition, 49 CFR part 1544 requires the affected aircraft operators to submit information on aircraft operators' flight crews and other employees, passengers, and cargo. This collection also includes documentation of aircraft interior and exterior security search prior to the departure for the first flight of the day. Additional document review includes security programs, amendments, CHRC applications; and recordkeeping requirements for security programs, CHRCs, training, and incident and suspicious activity reporting. Aircraft operators may provide the information electronically or in writing.

Aircraft operators must ensure that certain flight crew members and employees (including certain contract employees and authorized representatives) submit to and receive a CHRC. These requirements apply to flight crew members and employees with unescorted access authority to a Security Identification Display Area or who perform screening, checked baggage, or cargo functions. As part of the CHRC process, the individual must provide identifying information, including fingerprints. Additionally, aircraft operators must maintain these records and make them available to TSA for inspection and copying upon request.

TSA is revising the burden of the information collection by providing more detail regarding the security program amendments information collection. TSA is now breaking out the burden elements of the security program amendments information collection to include security program amendments requested by aircraft operators, TSA-required security program amendments (including emergency amendments), temporary changed conditions, SDs, and voluntary ICs.

TSA estimates that there will be approximately 634 respondents to the information requirements described above, with a total annual burden estimate of approximately 542,650 hours.

Dated: July 15, 2023.
Christina A. Walsh,
TSA Paperwork Reduction Act Officer, Information Technology.

[FR Doc. 2023-15377 Filed 7-19-23; 8:45 am]

BILLING CODE 9110-05-P